DEPARTMENT OF HEALTH AND HUMAN SERVICES

Office of Global Affairs: Stakeholder Listening Session on Amendments to the International Health Regulations (2005)

ACTION: Notice of public listening session; request for comments.

Time and Date: The listening session will be held on Friday, March 17, 2023, from 10 a.m. to 12 p.m., Eastern Daylight Time.

Place: The session will be held virtually, with online slide share and dial-in information shared with registered participants.

Status: This meeting is open to the public but requires RSVP to OGA.RSVP1@hhs.gov by Wednesday, March 8, 2023. See RSVP section below for details.

SUPPLEMENTARY INFORMATION:

Purpose: The U.S. Department of Health and Human Services (HHS) is charged with leading U.S. participation in the Working Group on the Amendments to the International Health Regulations (2005) and will convene a Stakeholder Listening Session.

The World Health Assembly (WHA) originally adopted the International Health Regulations (IHR) in 1969. The regulations were amended multiple times, resulting in the current IHR (2005). The purpose of IHR (2005) is to prevent, protect against, control, and provide public health response to the international spread of disease. In May 2021, Member States set up a Working Group on Strengthening WHO Preparedness and Response to Health Emergencies (WGPR) with the intent of strengthening WHO's capacities and ability to support Member States in the prevention and response of public health emergencies. The WGPR produced a report with key findings and recommendations that included amending the IHR. The United States submitted a package of targeted amendments to the IHR for consideration. These amendments seek to improve early warnings and alerts, transparency, and accountability in a manner that does not compromise national security or sovereignty. Other countries have also submitted proposals that the United States seek feedback from stakeholders on the proposed amendments. The Stakeholder Listening Session is designed to seek input from stakeholders and subject-matter experts on these proposals and to help inform and prepare the U.S. government for engagement with the Working Group on the Amendments to the International Health Regulations (2005).

Matters to be Discussed: The listening session will discuss potential amendments to the IHR (2005). Topics will include those amendments currently under consideration by the Working Group. An Article-by-Article Compilation of Proposed Amendments to the International Health Regulations (2005) can be found here: https://apps.who.int/gb/wgihr/pdf_files/wgihr1/WGIHR_Compilation-en.pdf. Participation is welcome from stakeholder communities, including:

• Public health and advocacy groups

• State, local, and Tribal groups

• Private industry

• Minority health organizations

• Academic and scientific organizations, etc.

RSVP: Persons seeking to attend or speak at the listening session must register by Wednesday, March 8, 2023.

Registrants must include their full name and organization, if any, and indicate whether they are registering as a listen-only attendee or as a speaker participant to OGA.RSVP1@hhs.gov.

Requests to participate as a speaker must include:

1. The name of the person desiring to participate;

2. The organization(s) that person represents, if any;

3. Identification of the primary amendment of interest.

Other Information: Written comments should be emailed to OGA.RSVP1@hhs.gov with the subject line “Written Comment Re: Stakeholder Listening Session 1 for the WGIHR” by Friday, March 31, 2023.

We look forward to your comments on proposed amendments to the International Health Regulations (2005).

Dated: February 23, 2023.
Susan Kim,
Chief of Staff, Office of Global Affairs.

[FR Doc. 2023-04160 Filed 2-28-23; 8:45 am]

BILLING CODE 4150-38-P